DEPARTMENT OF JUSTICE

Antitrust Division

Notice Pursuant to The National Cooperative Research and Production Act of 1993—Petroleum Environmental Research Forum Project No. 2004-06

Notice is hereby given that, on March 15, 2007, pursuant to section 6(a) of the National Cooperative Research and Production Act of 1993, 15 U.S.C. 4301 et seq. (``the Act''), Petroleum Environmental Research Forum (``PERF'') Project No. 2004-06 has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: BP Products North America Inc., Naperville, IL; Citgo Petroleum Corporation, Lemont, IL; ConocoPhillips Company, bartlesville, OK; Marathon Petroleum Company LLC, Findlay, OH; YPF S.A., Mendoza, ARGENTINA; and Total France, Paris, FRANCE. The general area of PERF Project 2004-06's planned activity is to reduce desalter environmental impacts.

Patricia A. Brink,
Deputy Director of Operations, Antitrust Division.

[FR Doc. 07-5567 Filed 11-06-07; 8:45 am]

BILLING CODE 4410-11-M